DEPARTMENT OF AGRICULTURE

Agricultural Marketing Service

7 CFR Part 989

[Docket No. AMS-FV-07-0076; FV04-989-3 C]

Raisins Produced From Grapes Grown in California; Change to Reporting Requirements Regarding Other Seedless Raisins; Correction

AGENCY: Agricultural Marketing Service, USDA.

ACTION: Correcting amendment.

SUMMARY: The Agricultural Marketing Service published a final rule in the Federal Register on September 28, 2004 (69 FR 57822). The document changed reporting requirements regarding Other Seedless varietal type raisins under the California raisin marketing order. However, three paragraphs in one subpart of the marketing order's rules and regulations were inadvertently omitted from subsequent issues of the Code of Federal Regulations (CFR). This document identifies the three paragraphs in the subpart that need to be reinserted into Title 7 of the CFR, Part 989.

DATES: Effective Date: Effective on June 20, 2007.

FOR FURTHER INFORMATION CONTACT: Rose Aguayo, Marketing Specialist, or Kurt J. Kimmel, Regional Manager, Marketing Order Administration Branch, Fruit and Vegetable Programs, AMS, USDA; Telephone: (559) 487-5901, Fax: (559) 487-5906; or E-mail: Rose.Aguayo@usda.gov or Kurt.Kimmel@usda.gov.

SUPPLEMENTARY INFORMATION: This document provides correcting amendments to Marketing Order 989 found at 7 CFR part 989 so that handlers of organically-produced Other Seedless varietal type raisins continue to report inventory, acquisitions, and disposition of such raisins to the Raisin Administrative Committee.

List of Subjects in 7 CFR Part 989

Marketing agreements, Raisins, Reporting and recordkeeping requirements.

Accordingly, 7 CFR part 989 is corrected by making the following correcting amendments:

PART 989—RAISINS PRODUCED FROM GRAPES GROWN IN CALIFORNIA

1. The authority citation for 7 CFR part 989 continues to read as follows:

Authority: 7 U.S.C. 601-674.

2. Amend paragraph (g) of § 989.173 by adding paragraphs (g)(1) through (g)(3) to read as follows:

§ 989.173 Reports.

* * * * *

(g) * * *

(1) Inventory report of organically-produced raisins. Each handler shall submit to the Committee by the close of business on July 31 of each crop year, and not later than the following August 6, on an appropriate form provided by the Committee, a report showing, with respect to the organically-produced raisins held by such handler:

(i) The quantity of free tonnage raisins, segregated as to locations where they are stored and whether they are natural condition or packed;

(ii) The quantity of reserve tonnage raisins held for the account of the Committee;

(iii) The quantity of off-grade raisins segregated as to those for reconditioning and those for disposition as such.

(2) Acquisition report of organically-produced standard raisins. Each handler shall submit to the Committee for each week (Sunday through Saturday or such other 7-day period for which the handler has submitted a proposal to and received approval from the Committee) and not later than the following Wednesday, on an appropriate form provided by the Committee, a report showing the following:

(i) The total net weight of the standard raisins acquired during the reporting period, segregated when appropriate, as to free tonnage and reserve tonnage;

(ii) The location of the reserve tonnage; and

(iii) The cumulative totals of such acquisitions (as so segregated) from the beginning of the current crop year.

(iv) Upon request of the Committee, each handler shall provide copies of the organic certificate(s) applicable to the quantity of raisins reported as acquired.

(3) Disposition report of organically-produced raisins. No later than the seventh day of each month, handlers who are not processors shall submit to the Committee, on an appropriate form provided by the Committee, a report showing the aggregate quantity of free tonnage packed raisins and standard natural condition raisins which were shipped or otherwise disposed of by such handler during the preceding month (exclusive of transfer within the State of California between the plants of any such handler and from such handler to other handlers). Such information shall include:

(i) Domestic outlets (exclusive of Federal government purchases) according to the quantity shipped in consumer cartons, the quantity of bags having a net weight content of 4 pounds or less, and the quantity shipped in bulk packs (including, but not limited to those in bags having a net weight content of more than 4 pounds);

(ii) Federal government purchases;

(iii) Export outlets according to quantity shipped in consumer cartons, the quantity shipped in bags having a net weight of 4 pounds or less, and the quantity shipped in bulk packs (including, but not limited to those in bags having a net weight content of more than 4 pounds);

(iv) Export outlets, by countries of destination; and

(v) Each of any other outlets in which the handler disposed of such raisins other than by any transfer which is excluded by the preceding sentence.

* * * * *

Dated: June 13, 2007.
Lloyd C. Day,
Administrator, Agricultural Marketing Service.

[FR Doc. E7-11829 Filed 6-19-07; 8:45 am]

BILLING CODE 3410-02-P